NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. The full submission may be found at: http://www.reginfo.gov/public/do/PRAMain. This is the second notice; the first notice was published at 73 FR 30421 and no comments were received. Comments regarding (a) whether the collection of information is necessary for the proper performance of the functions of the agency, including whether the information will have practical utility; (b) the accuracy of the agency's estimate of burden including the validity of the methodology and assumptions used; (c) ways to enhance the quality, utility and clarity of the information to be collected; and (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Title of Collection: Fellowship Applications and Award Forms.

OMB Approval Number: 3145-0023.

Type of Request: Intent to seek approval to extend without revision an information collection for three years.

Abstract

Section 10 of the National Science Foundation Act of 1950 (42 U.S.C. 1861 et seq.), as amended, states that “The Foundation is authorized to award, within the limits of funds made available * * * scholarships and graduate fellowships for scientific study or scientific work in the mathematical physical, medical, biological, engineering, social, and other sciences at appropriate nonprofit American or nonprofit foreign institutions selected by the recipient of such aid, for stated periods of time.”

The Foundation Fellowship Programs are designed to meet the following objectives:

• To assure that some of the Nation's most talented students in the sciences obtain the education necessary to become creative and productive scientific researchers.

• To train or upgrade advanced scientific personnel to enhance their abilities as teachers and researchers.

• To promote graduate education in the sciences, mathematics, and engineering at institutions that have traditionally served ethnic minorities.

• To encourage pursuit of advanced science degrees by students who are members of ethnic groups traditionally under-represented in the Nation's advanced science personnel pool.

The list of fellowship award programs sponsored by the Foundation may be found via FastLane through the NSF Web site: http://www.fastlane.nsf.gov.

Estimate of Burden: These are annual award programs with application deadlines varying according to the fellowship program. Public burden may also vary according to program, however it is estimated that each submission is averaged to be 12 hours per respondent.

Respondents: Individuals.

Estimated Number of Responses: 8,500.

Estimated Total Annual Burden on Respondents: 102,000 hours.

Frequency of Responses: Annually.

Dated: July 28, 2008.
Suzanne H. Plimpton,
Reports Clearance Officer, National Science Foundation.

[FR Doc. E8-17553 Filed 7-30-08; 8:45 am]

BILLING CODE 7555-01-P